DEPARTMENT OF ENERGY

Federal Energy Regulatory Commission

[Docket No. ER01-3084-000]

Nine Mile Point Nuclear Station, LLC; Notice of Filing

September 21, 2001.

Take notice that on September 20, 2001, Nine Mile Point Nuclear Station, LLC (Nine Mile LLC) submitted for filing, pursuant to Section 205 of the Federal Power Act and Part 35 of the Commission's regulations, the “Nine Mile Point Nuclear Station Unit 2 Operating Agreement” (Operating Agreement) dated January 1, 1993, as amended, by and between Niagara Mohawk Power Corporation (NMPC), Rochester Gas & Electric Corporation (RG&E), Central Hudson Gas & Electric Corporation (CHGEC), Long Island Lighting Company (d/b/a LIPA) (LIPA) and New York State Gas & Electric Corporation (NYSEG). If NYSEG does not sell its undivided ownership interest in the Nine Mile Point Unit No.2 nuclear generating station (NMP-2) to Nine Mile LLC, NMPC, RG&E and CHGEC will transfer their rights and obligations under the Operating Agreement to Nine Mile LLC and Nine Mile LLC will operate and maintain NMP-2 on behalf of LIPA and NYSEG pursuant to the terms and conditions of the Operating Agreement.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before October 5, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24146 Filed 9-26-01; 8:45 am]

BILLING CODE 6717-01-P